DEPARTMENT OF THE INTERIOR

Bureau of Indian Affairs

Notice of Intent To Prepare an Environmental Impact Statement for the Proposed Operations and Maintenance of the Flathead Indian Irrigation Project Upon Transfer

AGENCY: Bureau of Indian Affairs, Interior.

ACTION: Notice of intent and public scoping meeting.

SUMMARY: This notice advises the public that the Bureau of Indian Affairs (BIA) intends to gather information necessary for preparing an Environmental Impact Statement (EIS) for the proposed operations and maintenance of the Flathead Indian Irrigation project upon transfer. This notice also announces public meetings to determine the scope of issues to be addressed in the EIS.

The purpose of this notice is to obtain suggestions and information from other agencies and the public on the scope of issues to be addressed in the EIS. Comments and participation in this scoping process are encouraged.

DATES: Comments on the scope and implementation of this proposal must be received before July 31, 2004. The meeting dates are:

1. June 28, 2004, from 6:30 p.m. to 9 p.m., Arlee, Montana.

2. June 30, 2004, from 6:30 p.m. to 9 p.m., Ronan, Montana.

ADDRESSES: Mail or hand deliver written comments to Mr. Jeffery Loman, Chief, Natural Resources Division, Office of Trust Services, Bureau of Indian Affairs, Mail Stop-3061, 1849 C Street, NW., Washington, DC 20240. You may also fax comments to Chief, Natural Resources, at (202) 219-0006 or (202) 219-1255.

The first meeting will be held at the Confederated Salish and Kootenai Arlee Community Center, Arlee, Montana.

The second meeting will be held at the Ronan High School Gymnasium, Ronan, Montana.

FOR FURTHER INFORMATION CONTACT: Mr. Jeffery Loman, (202) 208-7373.

SUPPLEMENTARY INFORMATION: The Flathead Indian Irrigation Project (Project) is located on the Flathead Indian Reservation in northwestern Montana. The Secretary of the Interior (Secretary) is required to transfer the operations and maintenance of the Project as provided by the 1908 Act of May 29, 1908, Public Law 60-156, 35 Stat. 441 (1908) (the 1908 Act) and the 1948 Act of May 25, 1948, Public Law 80-554, 62 Stat. 269 (1948) (the 1948 Act).

In 1904, the Flathead Indian Allotment Act authorized allotments of land within the Flathead Indian Reservation to members of the Confederated Salish and Kootenai tribes (“tribes”) and construction of the Flathead Indian Irrigation Project for “the benefit of Indians” on the Flathead Indian Reservation. 33 Stat. 302. When this Act was amended in 1908, it also authorized the construction of irrigation systems to serve homesteaded lands within the Flathead Indian Reservation and provided for turnover of the operation and maintenance of irrigation works to non-Indian lands served by the Project when certain Project construction repayment conditions had been met. 35 Stat. 450. Further, upon turn over of the project, the 1948 Act called for the operation and maintenance of the Project under rules and regulations approved by the Secretary.

As of August of 2002, there were 134,788 total acres in the project; 127,535 of which were assessed acres, with 7,252 designated as temporarily non-assessed acres. Approximately 10 percent of the project's irrigated lands are held in trust by the United States for the benefit of individual Indian landowners and for the Confederated Salish and Kootenai tribes. Trust land totals 11,771 acres, while land in fee status totals 115,764 acres. The primary source of the water for the Project originates from the Mission Mountains which border the east side of the reservation. Project facilities include 17 major storage reservoirs, 1,300 miles of canals and laterals and more than 10,000 structures. The project is divided into the Mission, Post, Pablo, Camas, and Jocko divisions. Primary irrigated crops are hay and alfalfa, grains, potatoes, canola, and some fruit orchards.

Currently, the Bureau of Indian Affairs Flathead Agency Superintendent is the Officer in Charge of the Project and administers activities through the Irrigation Systems Manager. The Irrigation Systems Manager supervises the operation and maintenance of the Project works.

Non-Indian irrigation interests are represented by three irrigation districts, the Flathead Irrigation District, the Mission Irrigation District, and the Jocko Valley Irrigation District. These Districts signed repayment contracts with the United States in 1928, 1931, and 1934 respectively, and are collectively represented by the Flathead Joint Board of Control (FJBC), which is chartered under state law and represents only owners of fee lands. Individual Indians and the tribes that irrigate lands held in trust by the United States are statutorily excluded from representation by the FJBC.

Repayment of Project construction conditions were fulfilled in early January 2004. The Bureau of Indian Affairs, the tribes and the FJBC are developing proposed standard operating procedures for the Project and are proposing to contract the management of the Project under a Cooperating Management Entity, made up of representatives from the FJBC and the tribes with BIA providing oversight functions and maintaining its traditional role as trustee.

The Bureau of Indian Affairs has been delegated the responsibility to serve as the Lead Agency for National Environmental Policy Act compliance in connection with the proposed operations and maintenance of the Flathead Indian Irrigation project upon transfer. Issues to be addressed in the environmental analysis include, but are not limited to, irrigation and farming, rights-of-ways, treaty-protected fisheries, aquatic habitat, biological resources, wildlife habitat, and Indian traditional and cultural properties and resources.

Alternatives to the proposed operations and maintenance of the project to be examined in the EIS may include a variety of measures, such as various Project management control structures, certain operating and maintenance methods or procedures, system rehabilitation, and alternative water delivery regimes. The range of environmental issues and alternatives will be further developed based upon comments received during the scoping process.

Authority: This notice is published in accordance with section 1501.7, Council on Environmental Quality Regulations (40 CFR parts 1500 through 1508) implementing the procedural requirements of the National Environmental Policy Act of 1969, as amended (42 U.S.C. 4321 et seq.) and the Department of the Interior Manual (516 DM 1.6) and is within in the exercise of authority delegated to the Assistant Secretary—Indian Affairs by 209 DM 8.l.

Dated: May 27, 2004.
David W. Anderson,
Assistant Secretary—Indian Affairs.

[FR Doc. 04-12814 Filed 6-4-04; 8:45 am]

BILLING CODE 4310-W7-P